DEPARTMENT OF HEALTH AND HUMAN SERVICES

Administration for Children and Families

Submission for OMB Review; Comment Request

Title: Unaccompanied Refugee Minors Placement and Outcomes Reports; ORR-3 and ORR-4.

OMB No.: 0970-0034.

Description: As required by section 412(d) of the Immigration and Nationality Act, the Administration for Children and Families (ACF), Office of Refugee Resettlement (ORR), is requesting the information from report Form ORR-3 and ORR-4 to administer the Unaccompanied Refugee Minors (URM) program. The ORR-3 (Placement Report) is submitted to ORR by the State agency at the minor's initial placement in the resettlement State within 30 days of the placement, and whenever there is a change in the minor's status, including termination from the program, within 60 days of the change or closure of the case. The ORR-4 (Outcomes Report) is submitted every 12 months beginning on the 12 month anniversary date of initial placement to record outcomes of the child's progress toward the goals listed in the child's case plan. An ORR-4 is also submitted along with the initial ORR-3 report for minors 17 years old or above to establish a baseline of information for the youth related to independent living and/or educational plans. The ORR regulations per 45 CFR 400.120 describe specific URM program reporting requirements.

Respondents: State governments.

Annual Burden Estimates
Instrument | Number of respondents | Number of responses per respondent | Average burden hours per response | Total burden hours
ORR-3 | 15 | Estimated responses 178 | 0.25 (15 min) | Estimated 667.5.
ORR-4 | 15 | Estimated responses 127 | 1.5 (1 hour and 30 min) | Estimated 2,857.5.
Estimated Total Annual Burden Hours |  |  |  | 3,525.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, email: OIRA_SUBMISSION@OMB.EOP.GOV. Attn: Desk Officer for the Administration for Children and Families.

Robert Sargis,
Reports Clearance Officer.

[FR Doc. 2016-22678 Filed 9-20-16; 8:45 am]

BILLING CODE 4184-01-P